DEPARTMENT OF DEFENSE

Office of the Secretary

Performance Review Board; Membership of the Office of the Secretary of Defense

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Missile Defense Agency, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: July 1, 2003.

FOR FURTHER INFORMATION CONTACT: Sandra Burrell, Executive and Political Personnel Division, Directorate for Personnel and Security, Washington Headquarters Services, Office of the Secretary of Defense, Department of Defense, The Pentagon, (703) 693-8347.

SUPPLEMENTARY INFORMATION: In accordance with 5 U.S.C. 4314(c)(4), the following executives are appointed to the office of the Secretary of Defense PRB: specific PRB panel assignments will be made from this group. Executives listed will serve a one-year renewable term, effective July 1, 2003.

Office of the Secretary of Defense

Jennifer Buck, Chairperson

Bruce Bade

Robert Bruce

Jane Burke

Domenico Cippichio

Ellen Embrey

Keith Englander

Jeanne Fites

Robert Foster

Christopher Gardner

Alfred Goldberg

Bonnie Hammersley

Michael Ioffredo

James Johnson

Anna Johnson-Winegar

Jeanne Karstens

Paul Koffsky

Thomas Kuster

John Landon

Robert Leheny

George Lotz

William Lowry

Chuck Magrum

Timothy Morgan

Get Moy

Robert Nemetz

Ann Reese

J.Q. Roberts

Cheryl Roby

Alan Shaffer

Brooks Shelton

Scott Simpson

Joel Sitrin

Richard Sylvester

Alfred Volkman

Michael Williams

Dated: September 4, 2003.
L.M. Bynum,
Alternate OSD Federal Register Liaison Officer, Department of Defense.

[FR Doc. 03-23005 Filed 9-9-03; 8:45 am]

BILLING CODE 5001-08-M